ENVIRONMENTAL PROTECTION AGENCY

[IN 150-1; FRL-7440-3]

Notice of Final Determination for Nucor Steel in Crawfordsville, IN

AGENCY: Environmental Protection Agency (EPA).

ACTION: Notice of final action.

SUMMARY: This notice announces that on October 11, 2002, the Environmental Appeals Board (EAB) of the EPA dismissed a petition for review of a permit issued for Nucor Steel (Nucor) by the Indiana Department of Environmental Management (IDEM) pursuant to the regulations under the Federal prevention of significant deterioration (PSD) program. The EAB dismissed the petition for failure to file a petition within 30 days of permit issuance.

DATES: The effective date for the EAB's decision is October 11, 2002. Judicial review of this permit decision, to the extent it is available pursuant to section 307(b)(1) of the Clean Air Act, 42 U.S.C. 7607(b)(1), may be sought by filing a petition for review in the United States Court of Appeals for the Seventh Circuit within 60 days of January 17, 2003.

ADDRESSES: The documents relevant to the above action are available for public inspection during normal business hours at the following address: EPA, Region 5, 77 West Jackson Boulevard (AR-18J), Chicago, Illinois 60604. To arrange viewing of these documents, call Sam Portanova at (312) 886-3189.

FOR FURTHER INFORMATION CONTACT: Sam Portanova, EPA, Region 5, 77 W. Jackson Boulevard (AR-18J), Chicago, Illinois 60604. Anyone who wishes to review the EAB decision can obtain it at http://www.epa.gov/eab/orders/nucor.pdf.

SUPPLEMENTARY INFORMATION: This supplemental information is organized as follows:

A. What Action Is EPA Taking?

B. What is the Background Information?

C. What did EPA Determine?

A. What Action Is EPA Taking?

We are notifying the public of a final decision by EPA's EAB on a permit issued by IDEM pursuant to the Federal PSD program.

B. What Is the Background Information?

On June 6, 2002, IDEM issued a PSD permit (permit number 107-14297-00038) to Nucor for existing unpermitted burners in the preheat section of its galvanizing line. In addition, the PSD permit provided for the modification of 36 natural gas-fired main burners, 3 auxiliary natural gas-fired burners in the preheat furnace section of its galvanizing line, and 44 burners in the radiant tube section. The permit also contains a condition that requires Nucor to install continuous emissions monitors to verify compliance with nitrogen oxides (NOX) emission standards. On the same date, IDEM also issued to Nucor an administrative amendment to a minor source modification of a part 70 permit (administrative amendment permit). The cover letter to the PSD permit provided instructions for filing an appeal with the EAB and the cover letter to the administrative amendment permit provided instructions for filing an appeal with Indiana's Office of Environmental Adjudication (OEA).

On June 24, 2002, Nucor filed a petition for review of the PSD permit with the OEA following the instructions for filing the administrative amendment permit appeal. Nucor subsequently filed its petition for review of the PSD permit with the EAB on September 10, 2002. Nucor raised the following issues. First, that a continuous emissions monitoring system should not be required. Second, that the use of a 24-hour NOX average is unreasonable and unsupported by Federal or Indiana law. Third, that the selective catalytic reduction/selective non-catalytic reduction systems are incorrectly identified as best available control technology. Finally, that the PSD permit's optimum temperature requirements are unnecessary and duplicative.

Interested parties may petition the EAB for review of a PSD permit condition within 30 days after issuance of the final permit decision (40 CFR 124.19(a)). In accordance with this regulation, petitions filed more than 30 days after permit issuance are untimely. In this case, Nucor's deadline for filing a petition for review with the EAB was July 12, 2002 (30 days after the June 6, 2002, permit issuance plus 5 additional days since service was by mail). However, Nucor did not file its appeal with the EAB until September 10, 2002.

C. What Did the EAB Determine?

On October 11, 2002, the EAB dismissed the petition for review as untimely because Nucor was properly notified of the filing requirements and there is no good cause for Nucor's failure to file its petition within the 30 days of permit issuance allowed by regulation.

Dated: January 2, 2003.
Bharat Mathur,
Acting Regional Administrator, Region 5.

[FR Doc. 03-1146 Filed 1-16-03; 8:45 am]

BILLING CODE 6560-50-P